Proclamation 9607 of May 5, 2017

Public Service Recognition Week, 2017

By the President of the United States of America

A Proclamation

During Public Service Recognition Week, we express gratitude for our civil servants. Their daily effort keeps our Government functioning and helps make our Nation exceptional.

Throughout my first 100 days, I have seen the tremendous work civil servants do to fulfill our duty to the American people. At all levels of government, our public servants put our country and our people first. The hard work of our mail carriers, teachers, firefighters, transit workers, and many more, creates an environment that allows individuals and companies to thrive.

To empower our civil servants to best help others, the Government must always operate more efficiently and more securely. In March, I issued an Executive Order on a Comprehensive Plan for Reorganizing the Executive Branch. I am counting on our civil servants to seize upon that order and make our Government dramatically more accountable, effective, and efficient, by going beyond the modernization efforts of the past and re-examining the operational core of our executive departments and agencies. Together, through these and other efforts, we will fulfill our responsibilities to make our Government work better for the American people.

NOW, THEREFORE, I, DONALD J. TRUMP, President of the United States of America, by virtue of the authority vested in me by the Constitution and the laws of the United States, do hereby proclaim May 7 through May 13, 2017, as Public Service Recognition Week. I call upon Americans and all Federal, State, tribal, and local government agencies to recognize the dedication of our Nation's public servants and to observe this week through appropriate programs and activities.

IN WITNESS WHEREOF, I have hereunto set my hand this fifth day of May, in the year of our Lord two thousand seventeen, and of the Independence of the United States of America the two hundred and forty-first.

[FR Doc. 2017-09634

Filed 5-9-17; 11:15 am]

Billing code 3295-F7-P